FEDERAL COMMUNICATIONS COMMISSION

47 CFR Part 73

[DA 01-857, MM Docket No. 01-2, RM-10036]

Television Broadcast Service; New Iberia, LA; Correction

AGENCY: Federal Communications Commission.

ACTION: Correcting amendment.

SUMMARY: The Federal Communications Commission published in the Federal Register of April 11, 2001 (66 FR 18734), a document changing the TV Table of Allotments to reflect the substitution of TV channel 53 for TV channel 36-at New Iberia, Louisiana. However, TV channel 53 was inadvertently published as 56-. This document corrects that error.

DATES: Effective July 19, 2002.

FOR FURTHER INFORMATION CONTACT: Pam Blumenthal, Media Bureau, (202) 418-1600.

SUPPLEMENTARY INFORMATION:

Background

The FCC published a document in the Federal Register of April 11, 2001, (66 FR 18734) removing TV channel 36- and adding TV channel 53 at New Iberia, Louisiana. TV channel 56 was inadvertently published in lieu of TV channel 53 at New Iberia, Louisiana. This correction removes TV channel 56- and correctly adds TV channel 53-in § 73.606(b) of the Commission's Rules.

Need for Correction

As published, the final regulations contain an error which may prove to be misleading and need to be clarified.

List of Subjects in 47 CFR Part 73

Television broadcasting.

Part 73 of Title 47 of the Code of Federal Regulations is amended as follows:

PART 73—[AMENDED]

1. The authority citation for part 73 continues to read as follows:

Authority: 47 U.S.C. 154, 303, 334 and 336.

§ 73.606 [Corrected]

2. Section 73.606(b), the Table of Television Allotments under Louisiana, is amended by removing TV channel 56- and adding TV channel 53-at New Iberia.

Federal Communications Commission.
Barbara A. Kreisman,
Chief, Video Division, Media Bureau.

[FR Doc. 02-18179 Filed 7-18-02; 8:45 am]

BILLING CODE 6712-01-P